ENVIRONMENTAL PROTECTION AGENCY

[FRL-8761-6]

Total Coliform Rule / Distribution Systems Advisory Committee Agreement In Principle

AGENCY: Environmental Protection Agency (EPA).

ACTION: Notice of agreement in principle.

SUMMARY: In September 2008, the Total Coliform Rule/Distribution Systems Advisory Committee (Committee) signed an Agreement in Principle, making recommendations to the Administrator of the Environmental Protection Agency on revisions to the Total Coliform Rule and research/information needs to better inform distribution system issues. The purpose of this notice is to make available to the public the Agreement in Principle, which includes the full recommendations of the Committee. The Agreement in Principle can be found on EPA's Office of Water, Office of Ground Water and Drinking Water's Web site.

FOR FURTHER INFORMATION CONTACT: The Agreement in Principle (AIP) can be accessed on the Agency's Web site at http://www.epa.gov/safewater/disinfection/tcr/regulation_revisions.html. If accessing the AIP through EPA's Web site is not possible or for general information, contact the Drinking Water Hotline at 1-800-426-4791 or go to the Internet Web site http://www.epa.gov/safewater/disinfection/tcr/regulation_revisions_tcrdsac.htm l. For technical inquiries, contact Karl Anderson, Standards and Risk Management Division, Office of Ground Water and Drinking Water (MC 4607M), Environmental Protection Agency, 1200 Pennsylvania Ave., NW., Washington, DC 20460; telephone number: (202) 564-2833; fax number: (202) 564-3767; e-mail address: anderson.karld@epa.gov.

SUPPLEMENTARY INFORMATION: The Total Coliform Rule (TCR) is a National Primary Drinking Water Regulation, originally promulgated in 1989 by EPA under the Safe Drinking Water Act (SDWA), 42 U.S.C. 300f et seq., which sets both health goals (MCLGs) and legal limits (MCLs) for the presence of microbial indicators, such as total coliform, in drinking water. The rule also details the type and frequency of testing public water systems must undertake. EPA announced its intent to revise the rule in 2003.

In June 2007, EPA established the Total Coliform Rule/Distribution System Advisory Committee (Committee, TCRDSAC) in accordance with the provisions of the Federal Advisory Committee Act (FACA), 5 U.S.C. App.2, 9 (c). The purpose of the TCRDSAC was to advise and make recommendations to the Agency on revisions to the TCR, and on what information about distribution systems is needed to better understand the public health impact from the degradation of drinking water quality in distribution systems. The Committee's activities included efforts to utilize available information, analyze options for revisions to the TCR and to consider research and information needed to better understand and address public health risks from contamination of distribution systems.

The Committee consisted of organizational members representing EPA, public interest groups, State and local public health and regulatory agencies, local elected officials, Indian tribes, and drinking water suppliers. The Committee met on 13 occasions between July 2007 and September 2008.

All Committee members signed a final AIP in September 2008. The AIP contains recommendations on which all members of the Committee agreed. The recommendations can be divided into two main topics. The first topic is recommendations on how EPA should revise the TCR while maintaining or improving public health protection. The second topic concerns what data should be collected, research conducted, and/or risk management strategies evaluated to better inform distribution system contaminant occurrence and associated public health risks.

Today's notice, in addition to its posting on the EPA's TCR Web page, provides additional notification to the public regarding the availability of the AIP. In accordance with its usual rule development process, the Agency will provide a public comment period for the proposed Revised Total Coliform Rule when it is published and will address those comments in completing the final rule.

The Agreement in Principle (AIP) is the result of a tremendous collaborative effort and EPA would like to express its appreciation to all members of the Committee, as well as to members of the Technical Workgroup that supported the Committee.

Dated: January 7, 2009.
Cynthia C. Dougherty,
Director, Office of Ground Water and Drinking Water.

[FR Doc. E9-469 Filed 1-12-09; 8:45 am]

BILLING CODE 6560-50-P